DEPARTMENT OF HEALTH AND HUMAN SERVICES

Food and Drug Administration

[Docket No. FDA-2010-N-0394]

Clinical Studies of Safety and Effectiveness of Orphan Products Research Project Grant (R01); Correction

AGENCY: Food and Drug Administration, HHS.

ACTION: Notice; correction.

SUMMARY: The Food and Drug Administration (FDA) is correcting a notice that appeared in the Federal Register of August 6, 2010 (75 FR 47602). The document announced the availability of grant funds for the support of FDA's Office of Orphan Products Development (OPD) grant program. The document was published with an error. This document corrects that error.

FOR FURTHER INFORMATION CONTACT: Vieda Hubbard, Acquisition Support and Grants, Food and Drug Administration, 5630 Fishers Lane, Rockville, MD 20857, 301-827-7177, email: vieda.hubbard@fda.hhs.gov.

SUPPLEMENTARY INFORMATION: In FR Doc. 2010-19354, appearing on page 47602 in the Federal Register of Friday, August 6, 2010, the following correction is made:

1. On page 47602, in the second column, in the “DATES” section, beginning in the sixth line, the sentence “2. The anticipated start dates are November 2010; November 2012.” is corrected to read “2. The anticipated start dates are November 2011 and November 2012.”

Dated: August 26, 2010.
David Dorsey,
Acting Deputy Commissioner for Policy, Planning and Budget.

[FR Doc. 2010-21795 Filed 8-31-10; 8:45 am]

BILLING CODE 4160-01-S